DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2020. For purposes of this listing, long-term residents, as defined in section 877(e)(2), are treated as if they were citizens of the United States who lost citizenship.

SUPPLEMENTARY INFORMATION:

Last name | First name | Middle name/initials
ABHAR WUENSCH | CHRISTA
ACKERMAN | LAURA | LISA
ACKERMANN | AXEL
AGHA | ALI | I.
AGHA | ZAREEN
Aguirre | Estefania
AHMED | EHTIAJ
AHN | KI | DONG
AIKINS | CLAIRE | M.
AIKINS | KINGSLEY | T.
AIN | MARK | J.
AITCHISON | GEORGE | WILLIAM
AITKEN | CARMEN | C.
AITKEN | TIMOTHY | J.
AIZAWA | SHIGENORI
AJERSCH | ELLEN
AKED | CHRISTOPHER | J.
AKED | GILLIAN | K.
AKRA | DIRK | SALIH
Al Ansari | Talal | Abdulla
ALDER | DOUGLAS | ALLAN
ALDRED | LANE
Alehya | Ali | Abdullateef
ALFANNO | OMAR
ALGANS | LAURENT | PIERRE
Al-Hazeem | Abdulah | Zuhair
ALI | HASSAN | O.
ALI | PRASANNA
Al-Kalouti | Omar
ALLAL | NADINE | RACHELLE
ALLARS | MARIA | A.
AL-MALAZI | MAYYASA | SUSANNE
ALPERSTEIN | GARTH
ALPERSTEIN | MELISSA | ELISE BECKER
ALTENHOFF | JACQUELINE | A.
ALTFELD | MARCUS
ALTY | IAN | ASHLEY
ALVES MACEDO | GABRIELA
ALVIRI | ARVAND
ALZUPHAR | STEPHEN | JACQUES
AMANN | ANDREA | MARIA
AMBROSIO | GAETANO
AMBROSIO | LORRAINE
AMIN | SONAL
ANDERSEN-YOUNG | KATHERINE | ELIZABETH
Anderson | Jane | Sutherland
ANDERSON | SUSAN | JEAN
ANDRADE | RACHEL | JANE
ANDRE DE LA PORTE | VERONIQUE | CRISTINE
ANDREWS | JOAN | F.
ANGELI-WOLF | GLORIA | ELIZABETH
ANGEONESE | STEVE | PAUL
ANKER | ANNE-MARIE
ANTHONY | DAVID | M.
APAEZ | JORGE
APERY | DAVID | DENYS
APPLEYARD | CHRISTOPHER | MARK KENELM
ARAKAWA | MICHELLE | GEORGETTE
ARBER | CAROLINE | E.
ARGUELLES | ROSANNA | YCASIANO
ARKIN | NANCY
ARLT-HAMM | INES
ARMSTRONG | DAVID | A.
ARPAIO | LUCA | M.
ARUJ-HAIGH | SILVIA | LILIANA
ASAKAWA | MAKOTO
ASAKAWA | MIDORI
ASHTON | LEIGH | MIRANDA
ASIPOVICH | VARVARA
ASIPOVICH | VATSLAU
ASJES | LUCAS | JAN
AST | KARIN | SUSAN
Astbury | Kathleen | Ann
AUDI | JULIE
AUDI | YASMINE
AUPOIX | ALEX
AUSTIN | RUTH | BERE
AUYANG | ANETTE
BABA | KAZUYUKI
Bacharach | David | Lawrenece
BACHMANN | JESSICA | LORIANE
BADER | ALEXANDRA
BADGER | ANNE | LOUISE
BAE | MUN | SOO
BAE | SANG | HO
BAERGEN | JOYCE | ARLENE
BAERT | CHRISTINA | ANTONIA MARIA ELISABETH
BAERT | NATHALIE | CAROLINE MARIA
BAGAYATKAR | NAINA
BAGHESTANI | ARDAVAN
BAHNAN | RANIA | F.
BAIRD | RICHARD | J.
BAK | THOMAS
BAKHOS | TANIA
BALAM | ESENC | MERIC
BALTES | MONIKA
BANFIELD | CHRISTOPHER | JOSEPH
Bantug Benitez | Jose | Francisco
BAQUERIZO | RICARDO | A.
BARAK | YAEL | VIKTORIA
BARCLAY | MARGARET
BARCLAY | ROBERT
BARGAGJLI | RICCARDO
BARKER | SUSAN | MARSHA
BARRE | PIERRE | STEPHANIE DENIS
BARROS | ANDRES | SANTIAGO
BARROS | JOSEFINA | WINIFRED
BARROS | TOMAS | JOSE
BARTALENA | GUIDO
BARTH | PATRICK | D.
BARTOLI | ROBERTA
BARTOLOME FERNANDEZ | JENNIFER | DANIELLE
BARTON | ALISTAIR | RAINE SINCLAIR
BARTON | JAMES | S.
BARTONVA BARTONOVA | ZDENKA
BASIC | NATASA
BASSAN JR | DAVID | MICHAEL
BATES | JILLIAN | M.
BATTLE | ANNE | B.
BATTLE | XAVIER | L.
BAUER | DIANE | PATRICIA
BAUMANN | PASCAL | SAMUEL
BAUSILI | SANTIAGO
BAWDEN | MARY
BAY | FRANCOIS | JOSEPH TOUSSAINT
BEACOCK | JANICE | M.
BEACOCK | MICHAEL | W.
BEAN | ANDREW | ALEXANDER
BEAUPIT | BLAYNE
BECK | JOHN | CHARLES CHRISTOPHER
BECK | THOMAS | DAMIAN
BECKLEY | SIMON | P.
BEDETTI | MARIAPAOLA
BEDWICK | ALLAN | LEON DAVID
BEGERT | MERYL | HELEN
BEGG | GAIL | JANINE
BEGG | JAMES | MARTIN
BEHLING | STEFAN
BEIDLEMAN | SADAKO | Y.
BEIER | DELORES | ANN
BELENTEPE | TOMOKO | T.
BELO | FREDERICO
BELZIL | DENISE
BENNETT | MOTOKO
BENTHAM | PETER | A.
BERENDS | ALLARD | HUGO
BERGE | ANNETTE | CAROL
BERGER | CATHRIN | RAHEL
BERGLAND | YVONNE | P.
BERGMAN | LUUK | PETER
BERNASCONI | NICOLAS | JUSTIN
Bernotat-Danielowski | Sabine
BERNSTEIN | MIZUE | H.
BERTI | IVANA | BRUNA
BETANT | JEREMIE | CHARLES
BEUKEMA | MARY
BEVIS | COLLEEN | BEVERLY
BHALLA | NAVEEN
BHIDE | PRIYA
BI | MINGQIANG
BIBBY | ALICE | ANNA
BIBI | MUWAFFAK | A.
BIBI | RANA | H.
BIDDLECOMBE | MICHAEL
Bilfinger | Monica | Ruth
BIR | PRABHLEEN
Birchall | Anna
BIRNIE | KATHRYN | ANN MANSON
BISCHOFBERGER | JULIA | ALICE
BISHOP | DAVID
BISHOP | GILLIAN
BISLEY | SPENCER | JEREMY
BISWAS | PIYALI
BJELKE-WEIS | ANINE | NOEL
BLACK | CELESTE | MARIE
BLAIR | KAORI
BLANCHARD | PHILIPPE | ALEXANDRE
BLANDFORD | CLAUDIA | JANE
BLESER | SILKE
BLEWITT | RACHEL | FRANCES
BLOCH | ALICE | MARGARET
BLOECH | HENNING | M.
BLOXHAM | MARILYN | RUTH
BODDAERT | CHRISTIAN
BOHRA | HEMENDRA | SINGH
BOLF | DEBORAH | L.
BOLLA PITTALUGA | PAOLO
BOLLETER | ANDRES | SCOTT
BOMPHRAY | ANDREA
BOMPHRAY | GARY
BOND | DARRYL | K.
BONI | WILHELM | A.
BOON | BENJAMIN
BORCHERT | HENRI | CHRISTOPHER
BORDELEAU | RICHARD | P.
BOREEL | MARGUERITE | EMILIE
BORG | PASCALE | A.
Borovitz | Alexander
BOSCH | ANNEBELLE | E.
BOSCH | EVALINE | A.
BOSCH | PETER
BOSCH | RIMI
BOSWELL | KATE | E.
BOTHWELL-FERNANDES | JACQUELINE | SUE ANN
BOUCHER | DIANE | L.
BOURHIS | DANIELE
BOURHIS | YVES
Bourke | Tallulah | Erin
BOUVY | CAMILLE | LAURENCE
Bouvy | Pauline | Michele
BOWEN | BRIAN | H.
BOWLER | JOHN | TIMOTHY
BOWLER | KAREN | JAYNE
BOWMAN | STEWART | MACLEOD
BOYCE | THOMAS | MARK
BOYLE | MELANIE | J.
BOZORGMEHR | MARYAM
BRADBURY | ALISON | PAISLEY
BRADBURY | MEREDITH | G.
BRADBURY | SIMON | ALEXANDER
BRADFORD | SOFIA de AMARO | PAVAO
BRADLEY | JAMES | ROSS
BRADLEY | JEANETTE | A.
BRADLEY | JONATHAN | R.
BRADLEY | KENNETH | J.
BRADLEY | ROSEMARY
BRADLEY | STEPHEN
BRADY | COLLEEN | A.
BRANDT | CHRISTINA
BRANDT | LENNIE | DE
BRANT | CLAIRE
BRANT | DAVID
BRANTSCHEN | LEAH
BRATTSTROM | ULLA
BRECHET | PHILIPPE | HENRI
BRECKBILL | KATHRYN | LEIGH
BREITLING | DENNIS
BRENER | ALFREDO
BRENNAN | KATHLEEN | ANN
BRENNINKMEYER | MADELEINE | AGNES MARGARTHA
BREUER | NORBERT
BRIAND | AMANDINE
BRIAND | GURVAN
BRIEN | SARA | J.
BRIERLEY | ADRIAN | W.
BRILEY | PAUL
BRIN | ANNE | C.
BRINCKMAN | BART
BRISSET | PAULE | MADELEINE
BROADBENT | OAN
BROWN | ADAM | NICHOLAS
BROWN | ANTHONY | J.
BROWN | JAMES | MELVILLE
BROWN | MARY | LOUISE
BRUEGGEMEIER | JANA
BRUEGGEMEIER | TIM
BRUGGEMAN | SHIRLEY | M.
BUCK | NICHOLAS | J.
BUENO | KEREN
BUENO | MAYA
Bufman | Gil | Michael
BUGNA | EMMANUELLE | ANNE
BULLA | PAMELA | ANN
BULLEN | ROBERT
BULLEN | ROBERT
BULLIVANT | JANE | CORDELIA
BULLOCK | DAVID | WILLIAM
Buonopane | Edward | Joseph
BURGER | CHRISTA
BURGER | MARIO
BURGER | SOPHIE | BEATRICE
BURGI | NICOLE | ALEXANDRA
BURGIN | KARL | EDMUND
BURKHARDT | SHANE
BURNS | MARY | P.
BUSCH-PETERSEN | JAKOB
Bye | Camilla | Catherine
BYRNE | JANET | LIDDLE
BYUN | HONG | SIK
CAHN VON SEELEN | ULF | MANFRED
CAILES | COLLEEN
CAINE | DONALD | EDWARD
CALDER | RHONDA | T.
CALDWELL | GERARD
CAMINOS | CASANDRA | NICOLE
CAMPBELL | ANTHONY | G.
CAMPBELL | CATHERINE | JEAN MACKAY
CAMPBELL | JEFFREY | W.
CAMPBELL | LORRAINE | C.
CAMPBELL | MARY-ANN
CANDRIES | MARIA | LENA FV
CAPEL | SUSAN | LOUISE
CARDIM | MAFALDA
CARLISLE | MICHAEL | H.
CARLISLE | SOPHIE | E.
CAROLINE | MARTINE | CAROLINE BLANCHE
Carrithers | Michael | Barnes
CARTER | ANDREA
CARTER | PAUL
CARTIGLIA | NICOLO
CARTWRIGHT | JULIE
CARUSO | JESSICA | STEFANIE
CASEY | FIONA
CASSAR | MARK | M.
CASSER CASSAR | BONNIE
CASTRACANE | LUBA
CATO | BIRGIT
CAUSSE | OLIVIER
CAVALLI | SIMONE
Cavalli Beard | Erica | Ann
CAVANAUGH | DANIELLE
CECIL | MICHAEL
CEHA | MICHIEL | JAN
CERNIN | DANIEL
CHACKO | ANN-MARIE
CHALERMKITTCHAI | PONGTAWAT
CHAN | ALLAN | S.
CHAN | ASHLEY | WUN MUN
CHAN | KAM | LUN
CHAN | KENG | LOKE
CHAN | LENNARD | H.
CHAN | NINA
CHAN | PORTIA | YUEN-SHAN
CHAN | SHING | YAN
CHAN | SIEW | HOONG
CHAN | TARA | E.
CHAN | YEE | HUI
CHAN | YUK | SIN
CHANDARIA | SARIT
CHANDLER | REBECCA
CHANG | DONG-LONG
CHANG | LI-TIEN
CHANG | LI-YU
CHANG | MYOTIN
CHANG | PHOEBE
CHANG | RUEY-CHI | L.
CHANG | SHANG-CHIEH
CHANG | TIMOTHY | S.
CHAO | JENNY | J.
CHAO | YEN | YEN
CHARPENTIER | MYRIAM
CHATAIN | OLIVIER
CHELL | DAVID | EMANUEL
CHEN | CHIEN | CHEN
Chen | Chien Chung | Andrew
CHEN | CHIH | MING
CHEN | CHING | MEI
CHEN | CHING-YUAN
CHEN | CHIUEH-HUA
CHEN | CHUN | M.
CHEN | GANG
CHEN | HAO
Chen | Henry
CHEN | HSIN | YI
CHEN | LI-HUNG
CHEN | MARGARET | C.
CHEN | MEI-SHENG
Chen | Ming | Chein
Chen | Ming | Sheh
CHEN | NINGLIN
CHEN | SHERRY | CHEN-JUNG
CHEN | YI-YING
CHEN HSU | HSIU-MI
Cheng | Jeffrey
CHENG | SHUN-YUAN
CHEONG | JASON | BRYAN
CHERRY | PAUL
CHEUNG | TAT-WING | SIMON
Chivers | David | Hartland
CHO | HYUN | DAI
CHO | TAE | YONG
CHOI | EUJEAN
CHOI | HEE | YOUNG
CHOI | YONG | HWA
CHOLEWINSKI | PETER
CHOMETTE | ALEXANDRE | OLIVER
CHOO | STEPHANIE | WAN JUEN
CHOOMUENWAI | SAKECHAI
CHOU | CHE-WEI
CHOU | CHIA-YI
CHOU | YU-TING
CHRISTOPOULOU | DINA
CHUGANI | SURESH
CHUNG | JIYOUNG
CIZERON | ALEXANDRA | IRENE
CLARK | BARBARA | LOUISE
CLARKSON | HELENE | EDITH
CLARKSON | MAX | ADAM
Clavelly | Sandrine | Michele Erol
CLEMENTS | CAROLINE | JANE
CLERC | ANNE | CATHERINE
CLEVEN | LAURA | ELISABETH MILLANIE VIRGINIA
CLOES | VERONIQUE | ANNE
CLOITRE | CHANTAL | TREMEL
COHEN | PETER | A.
Cohen | Rina | Isabella Lotti
COLACO | MARGARIDA | M.
COLACO | MARIA | F.
COLANTUONI | LIVIA
COLE | GABRIELLE
COLICCHIA | SILVINA
COLLIER | PAUL
COLLINS | JANELL | MARIE
COLSON | KATHERINE | ELISABETH MACDUFF
COMPTON | ANN | M.
CONBOY | JOEL | CHARLES
CONNOLLY | CATHERINE | L.
COOK | DAVID | RUSSELL
CORDARO | JOANNA
CORDIAL | ALEXANDER | MITCHELL
CORDIAL | MELANIE | VICTORIA
CORNES | CHARLOTTE | AILSA FERRAR
COTE | REAL | J.
COTMAN | AMANDA | SUSAN
COTTLE | PAUL | WESLEY
COURT | ADRIAN | R.
COX | DAVID | WESLEY
COX | KARL | EDWARD
CRAMM | GEORG
CRAMPTON | AMELIA | SARAH ROSE
CRANE | BARBARA | JOAN
CREASY | DIANNE | M.
CREMESE | GILBERT | J.
CRICHTON | CATHERINE | M.
CRICHTON | WILSON | A.
CRITTENDEN | JACINE | L.
CRIVELLI-AMSTUTZ | MIRIELLE | MIRA
CROCE | LEILA | ANGELA
Croin | Laura | Kay
CROW | CLAUDIA | JANE
CROWE | ALEXIS | LEAH
CUMING | SADIE | E.
CURTIS | COLLEEN | A.
CURTIS | FRED | D.
CZIEPLUCH | CELINA | VIVIAN
DAALEN | OLIVER | MICHAEL VAN
DAI | BAOJUN BAIJUN
DAI | YUANSHUN
DAKU | KENNETH | E.
DALSANIA | DHIRAJLAL | L.
DANCIK | DEBORAH | BLOOMFIELD
DANIELI | ANNA | TERESA
DANIELLE | LOUISE | M.
DANIELS | MONIQUE | JEANNE MARIE
Darling | Madison | Amaya
DASH | KAIREN | ELIZABETH
D'ASTICI | GIUSEPPE
DAUJAT | MAXIME | THOMAS
DAURIGNAC | ALICIA | MARIE
DAVID | ELISABETH | MARIE
DAVID | LARISSA | CHANTELLE
DAVIDSON | COLLEEN
DAVIDSON | IAIN | STEWART
DAVIDSON | JAMES | G.
DAVIE | GEORGE | W.
DAY | JANET | ANNE
DAZA | ANA | F.
DE BOER | THEO | FRANCIS
de Chanville d'Arc | Philippe | Jean Pierre Baudesson
DE GALEMBERT | LORRAINE | DE BODIN
DE GREEF | WENDY
DE KALBERMATTEN | JASMINE | MARIE LOUISE
De KERGUIZIAU De KERVASDOUE | LAURE | MARY FRANCE
DE MEIJERE | WESSEL | JOHAN
DE MONTALEMBERT | ROXANE | MARTHE
DE MORAES DE MORALES | CONSUELO | M.
DE SILVA | COURTNEY
DE SILVA | DEBORAH | M.
DE SILVA | JOSHUA | J.
DE SILVA | MARC | A.
DE SOUZA | JOSHUA | ALEXANDER
DE SOUZA | MARCELO | N.
DE TORO | MARIANA
DE VOGHEL | MARIE-LAURE | CHRISTINE
DE VRIES | DANIEL | M.
DE WITTE | SAMUEL | PATRICK
Declerck | Vincent | Florian
DEETER | MICHAEL | ALAN
DEITZ | MARK | PERRY
DEL MARMOL | JULIEN | BILL CHARLES EMMANUEL
DELAYE | THOMAS
DELERUE | CECILE | THERESE NEZAHAT TARDU
DELTOUR | JEAN-BAPTISTE | ALAIN
DEMBINSKI | MIGUEL | M.
DEMEUSE | SIMON
DEMEYER | NICHOLAS
DEN TEX | MARIE | BEATRIX
DENNING | PIERS | WILLIAM
DERGHAM | SERGE
DERMITZEL | DANIEL
DESBIENS | NATHALIE
DEUTSCH | SHIRA | HANA
DEVILLERS | SOPHIE
DEVINAT | FABIENNE | RENEE
DEVLIN | ALAN | JAMES
DEVOS | LIEVE
DEVRIENT | ANNE | GOODE
DEWHIRST | JONATHAN | ADAM
DEWITTE | NATHALIE
DEXTER | DAVID | KANNER
DEYHLE | RICHARD | RUDOLF ROLF
DHAKAL | HARI | P.
DHAKAL | PAWANITA | SHROTRIYA
DIAS BARATA | MELANIE | GOETTI
DIAW | BORIS | B.
DIBILDOX | LETICIA | I.
DIEDRICH | ANNABEL | S.
DIEDRICH | JOERG
DIEDRICH | MARTINA | S.
Dieter | Michaella | Anne
DIEWOKOVA | KRISTYNA
DIGNAM | DAVID
DIGNAM | EVELYN
DIHOVICNI | DJORDJE
DIHOVICNI | LARA
DIXON | KAREN | JUDY
DIXON | MARCHANT
DJIRDJIRAN | CONSTANTIN | HAIK
DOCKING | EMMA | J.
DOERKSEN | WILMER | JERRY
DOERNBACH | NATHANIEL | LOUIS
DOHERTY | CATHERINE
DOLEMAN | BRETT | J.
DOLLE | NICOLE | GAY
DOLSKI | DIANE | G.
DOLSKI | GARY | L.
Domange-Brown | Kathleen | Ann
DONDE | MANDAR | S.
DOPP | SARAH | D.
DORSEY | TATIANA | ELIZABETH
DOUGLAS | BRYCE
DOUMET | JOSEPH | PIERRE
DRADER | JESSICA | REA
DRAGANOIU | ELENA | S.
DRAPER | ANTHONY | J.
DREPPER | ULRICH
DREW | MARGARET | E.
DREYFUS | GILLES
DREZE | BENOIT | JOSE
DROPE | JACQUELINE | MARIE
DROUIN-ALLAIRE | MAXIME
DRUESNE | EMMY | MARY
DUARTE | ROBERTO | DAVID
DUBOIS | FABRICE
DUFFY | OLIVER | GEORGE
DUITEMEIJER | MARTEN | ANTON
DUNCANSON | EMILY | ERIN
Dungan | Christopher William | Charles
DUNKIN | THOMAS | WAYNE
DUPLESSIS | Kathleen | REGINA
EASDALE | REBECCA | LEE GILMORE
Eastwood | Karen | Lynn
EDDY | TERENCE
EDE | CHRISTOPHER | ROLAND
EGGENBERGER | ETIENNE
EHRHART | MICHAEL | JOSEF
EISENRING-NIEDERER | BRIGITTE | MICHELLE
ELDON-EDINTON ELDON EDINGTON | SIMON
ELLING | MASAKO
ELLIOTT | BRIAN
ELLIOTT | SHARANE | LOUISE
ELLISON | STACY | ANN
ELOFF | JOHANNES | JACOBUS
ELSDON-DEW | EMMA | L.
Ely | Broderick | Paul
EMSERMANN | ISABEL | KATHARINA
Endo | Eric | Hirotaka
ENDOH | MISAKO
ENGELEN | SYLVIA
ENGELHORN | MANUEL | EMILE
ENGLEBERT | CHARLINE
ENOKIDA | SHUICHI
Ericksen | Janet | Ruth
ERIKSSON | KATHERINE | JANE COOPER
ERLANGER | WENDY
ERLICH | DAVID
ERLICH | MARGALIT
ESCOLME | KATHLEEN | MYERS
ESSELEN | ISABELLE | EVARITA
ETELAPERA | ESA | O.
EUSTAQUIO | DANIEL
EVAMY | ANDREW | DUNCAN
EVANS | DOREEN | C.
EVANS | MEGAN | ASHLEY
EWART | ELIZABETH
EYMANN | MELANIE | BIANCA
EYSCHEN | MARC | ALPHONSE
EZION | ORLY | MIRIAM
FAFALIOS | STAMOS | PANOS
Falk | Pamela | Kay
FARNWORTH | NIGEL
FARQUHARSON-ROBERTS | JEAN | NIELSEN
FARZANEGAN | FARZAN
FAXEN | ANNA | C.
FEBLES | PEDRO
FEEHAN | ALICE | JOHANNA EVA
FEIST | JORDAN | L.
FEIST | KELVIN | G.
FEIST | TRACEY | A.
FELCHLIN DUMONT | MARTINA | ELISABETH
Feldmayer | Matthias
FELDMAYER | STEFANIE
FENICHEL | SULYA | ANNE
FERCHER | EDILENE
FERCHER | KURT | C.
FERGUSON | JENNIFER | DIANE
FERGUSON | PHILLIP
FERLAND | JOSEE
FERNANDEZ | GABRIEL
FERRANDEZ | BEATRICE | M.
FERRANDEZ | PASCAL | A.
FIDDY | FARIMAH
FILLER | HELEN
FINKELSTEIN | PHILIPPE
FINKS | FRANCESCA
FINLAN | JOHN | WILLIAM
Finnie | Tania | Renae
FISCH | MARTA | LYNNE
FIUME | ELISA
FLEET | GILLIAN | J.
FLEET | NEVILLE | J.
Fleiger | Dianne | Patrice
Fleischmann | Maayan
FLEMING | JANET
FLEMING | KIMBERLY | KAY
FLETCHER | BENJAMIN | HAROLD
FLORENTIN | LIONEL | SERGE JEAN
FLORY | BERND | W.
FLUECK | DAVID | C.
FOERSTER | HELMUT | G.
FOERSTER | NICOLAS | H.
FONG | SHEILA | K.
FONG | WESLEY
FONROSE | REGINALD | S.
FONTANA | GIJSBERTHA | A.
Fontwit | Sandy
FOO | EUGENE | GUO HAO
FOO | MAW | DER
FOO | SUAN | TONG
FORBES-JAEGER | GABRIEL | ROMAIN
FORCHINI | JESSICA | MARIE
FORD | CHRISTOPHER | DAVID
FORSLUND | JOHN | E.
FORWOOD | SAMANTHA
FOUQUET | ROMA-JIN (TOMA-JIN?) | MORIKAWA
FOX | DANIEL | EJ
FOX | FREDERIC | MARTIN
FOX | NICOLA | THERESE
FOX | NORMA | E.
FRANCIS | BRUCE | G.
FRANCIS | PAULINE | J.
FRANCIS-BRUCE | SUSAN | GILLIAN
FRANCO-OBREGON | ALFREDO
FRANKEL | JENNIFER | ROBYN
Fraser | Robert | Eilliam
FREEMAN | ANNE-MARIE | C.
FREEMAN | RAYMONDO
FREI | KARIN
FREI | MICHAEL
FREUND | SACHIYO | Y.
FREW | JAMES | W.
FREW | SHARON | R.
FREY | MARIEL | MARIKA
FRIDJONSSON | EINAR | O.
FRIEDLI | DANIEL | ALBERT
FRIESE | LAILA | JEANETTE
Friesen | Donald | Kenneth
FUJIOKA | YOSUKE
FUJITA | DIANE | M.
FUJITA | LAURA | MARIE
FUJITA | MARK | K.
FUJITA | MICHELLE | LYNNE
FUJIWARA | ERI
FUJIWARA | RYO
FUKUI | TETSUO
FULD | CELESTINE | OCTAVIA
FULTHEIM | SHAI
FULTHEIM | YAEL
FUMAGALLI | INES | MARIE GIOVANNA
FUNK | CURTIS | H.
FUREST | MARIA | A.
FURNER | GUY | V.
FURUI | YOSHIKO
FURUYA | RUMIKO
FUSCO | ANNAMARIA
GABRIELIDIS | KATHERINE
GAEHWILER | NIGEL | MICHAEL
GAFFNEY | BRIAN | MALCOLM
GALLAGHER | KEELY | ANN
GALLAGHER | TAMMY | S.J.
GALLETTA | NEIL
GALLON | GRAHAM
GALPIN | RICHARD
GALZA | LOIS | COLETTE
GAMMETER | STEPHAN | ROBERT
GANNOT | GERSHON
GANTER | SYLVIE | A.
GARAT | ELODIE | KRISTINA EMILIE
GARCIA | FRANCISCO
GARDNER | CHRISTOPHER | RODWAY
GARDNER | PATRICIA | MARY
GARGANESE | GIORGIO
GARGOUR | JACQUES
GARIBALDI | STEPHEN | JOSEPH
GARRAND | LISA | ANN
GARRETT | MICHELLE | LOUISE
GARRETT | SUSAN
GARSIDE | NICHOLAS | A.
GASPARINI | GIORGIO
GASPARINI | LUCIANA | PODA
GATFIELD | DENISE | M STEINER
GAUTHIER | MARION | PAULINE TAQUOIS
GAUTHIER | VINCENT
GAUVREAU | GASTON | G.
GAUVREAU | GUDRUN
GAZAL | CEDRIC
GAZAL | CHARLES
GEELEN | ERIK | LOUIS
GEFFEN | SAUL | B.
GEIJER | ELIZABETH | ANN BYE
GERARD | ALBAN | MARY
GERBER | ROY | PETER
GERRESE | JOHAN | W.
GIBSON | JENNIFER | JEAN KINLOCH
GIELEN | CHRISTA
GIELEN | GREGOR
GIL | CRISTIAN
GILARDINI | GAIA | CHARLOTTE
GILBERTSON | GEORGIA | L.
GILBERTSON | RICHARD | J.
GIRARD | JENNIFER | RACHEL
GIUSTINIANI-MILLS | JULIE
GLARE | MONICA
GLARE | PAUL | A.
GLENDALE | JOAN | I.
GO | KERWIN | C.
GODFREY | SHIRLEY | E.
GODREY GODFREY | KELLY | C.
GOLDBERG | LAWRENCE | CHARLES
GOMEZ | MARTA | I.
GOMEZ GIRALDO | BEATRIZ | L.
GONG | MEI
GONZALEZ | ALEJANDRO
GONZALEZ | IVAN | J.
GONZALEZ | M. | BARRON
GONZALEZ | OSCAR
Goodman (nee Morgan) | Katherine | Anne Kyle
GORIS | IISE | JOZEF MATILDA
GORSLINE | CARA | LEA A
GOTTSCHALK | BRIAN | PHILIP
GOULD | PHILIP | HENDRIK
GRABSKI | ERIKA
GRABSKI | KARL | E.
GRAHAM | JANE | E.
GRAHAM | PETER | M.
Graham Brims | David | Arthur
GRAHAME | JUDITH | JOANNA
GRANETT | DEBRA | J.
GRANT | DANIEL | ALEXANDER SAMUEL
GRANT | TANYA
GRAVES | ALIA | MARIE
GRAVES | FIONA | MARIE
GRAY | EMMA | JANE
GRAY | VICTORIA | ANNE MARIE CHRISTOPHER
GREEN | CAROLINE | MARGARET KVILJORD
GREEN | RICHARD | F.
GREENE | LAURA | VERONICA
GREENE | MITSUKO
GREENE | THOMAS | MATTHEW
GREGORY | EMMA
GRESZCZUK | BARBARA | M.
GRETER | JURG JUERG
GREWING | DANIEL
GREY | CLARE | P.
GRIFFITH | MICHAEL | JOHN
GROSS | SEAN | PETER
GROVER | CLIFFORD | JOHN
GRUENER | MICHAEL
GSCHWENDER | SEBASTIAN
GU | CHUNGUANG
GU | FAN
GUBLER | JOYCE | PAIGE
GUEUR | SEBASTIEN
GUGGER | EDITH | E.
Guidi | Jan | Domenico
GUILLOUX | SOLENE | GINETTE
GUO | WANG | MEI CHI
GUO | YING
GUPTA | AMITA
GUPTA | RAJIV
GUPTA | SAVIRA
GUPTA-MITTAL | NEETU
GUTH | BENJAMIN | JORDAN
GUTJAHR | ROBERT | MICHAEL
Guy | Lauren | Pauline
HAAGENSEN | FRANK | D.
HAASS | FRIEDERIKE | A.
HAKIM | RICHARD | WALTER EMMANUEL
HALL | BROCK | GRAHAM
Hall | Edwards | Rufus
HALLER | RICHARD | RAY
HAMARD | MARIA | A.
HAMARD | YVES | J.
HAMILTON | EMMA | LEA
HAMILTON | JOHN | PAUL
HAMILTON | MARY | SUSAN
Hammer | Richard | Earl
HAMMOND | MARGARET | FAY
HAN | SEONG | WEON
HAND | ENCARNACION
HAND | JOANNE | BOBBIE
HANSEN | ANNELOTTE | M.
Hao | Yunpeng
HARD | RONALD | THOMAS
HARDIN | CHRISTIAN | ALEXANDER
HARDING | CHARLES | M.
HARDING | ELISABETH
HARDING | JENNIFER | ANN
HARDMAN | LAURA | ANN
HARDY | KATIE | ANN
HARRE | HORACE | R.
HARRELL-BOND | DAVID | EDWARD
HARRIS | MARK | D.
HARSONO | VINCENT VINCENTIUS | I.
HART | MARY | CHRISTINE
HARTNAGEL | TIMOTHY | FRANK
HASEGAWA | MEGUMI
HASEGAWA | YOSHIYUKI
HASHIMOTO | KAZUO
Hattori | Kiyoshi
HAU | MARIA | LISA
HAUER | RANDOLPH | N.
HAUSER | THOMAS | JAMES OSCAR
HAVEN | FRANCIS | RENE
HAYMET | ANTHONY | DOUGLAS JOHN
HAZELHOFF | HENK HENDRIK | L.
HAZELHOFF | INGRID | M.E.
HEFFERNAN | CHERYL | A.
HEFFERNAN | ROBERT | J.
HELG | MARKUS | R.
HELLER | JESSICA | LYNN
HELMICK | DORA
HENCK | JAN-OLAV
HENNING | GRAHAM | KEITH
HERBERT-SMITH | MARTYN | GILROY
HERER | ARNOLD
HERMAN | SARAH | LEA
HERR | KENNETH | SCOTT
HERRAN | SEBSTIAN | CHARLES EDWARD
HERRY | ROMAIN
HERTOG | FRANCINE | ELISE DEN
HESS | CHRISTINA
Hetherington | Joyce | Ann
HETZ | LINDA | C.
Hewlett | Helena | Theodora
HEWSON | MARION
HEYSE | SARA | K.
HIBBS | ELSA | LORETTA KAMYRE
HIGA | FUMI
HIGA | YOSHIMITSU
HILL | LAURENCE | C.
HILL | SIJGJE | J.
HILLEN | JAN | DANIEL
HILLIER | JOHN | H.
HILLIGES | KLAUS-DIETER
HINDERMEYER | ANDREW | WILLIAM
HINRICHS | CHRISTOPHER | LEE
HIOKI | HIDETAKA
HIRANO | MIKITO
HIRATO | AKIO
HIRATO | TERUKO
HISAEDA | MIHO
HISAEDA | SHUJI
HIXSON | SHANE | RYAN
Hoedemaker | John Robert | Rients
HOERSCH | SEBASTIAN
HOFMAN | CATHERINE | DIANA
HOFSTADLER | PATRICK
HOGARTH | KATHERINE | MONICK
HOGUE | MIDORI
HOHL | URSULA | MARIA
HOLDEN | PERI | ATAMAN
HOLLANDS | JAN
HOLLENBECK | CHRISTOPHER | MARK
HOLLIS | ALISON | ELIZABETH
HOLM | ARNOLD
HOLROYDE | DENISE | M.
HOLROYDE | JOHN | K.
HOLZER | LILLIAN | M.
HOMMEL | HANS | G.
HOMUNG | VERONIQUE | JENNIFER JOAN
HONG | HEA | RA
HONG | SUJIN
HOPE | AMBER
HORAN | AVSHALOM
HORIKOSHI | NOBUKO
HORLICK | SIMON
HORNE | SANDRA
HORNG | JENG | SHIUANN
HORNIK | YONI
HORSWILL | AMANDA | C.
HOTCHKISS | AMY | LOUISE
HOUGH | SABINE | F.O.
HOURANI | FAYEK | S.
HOVAGUIMIAN | CATHERINE
HOW | EDITH
HOW | PETER | C.
HOWARD | AUDREY | R.
HOWARTH | CHRISTOPHER | PETER WILLIAM
HOWES | BRYNA
HOWIE | ELIZABETH | ANTONIA
Hsiao | Jing-Jing
HSU | HAO-FENG
HSU | JEN | DA
HSU | LING | YUN
HSU | MEI-HSIU
HSU | SHIH-FEI
Hsu | Wei | Hsuan
Hu | Howard
HUANG | CHI-CHUAN
HUANG | HAI
HUANG | HUNG-HIS HUNG-HSI
HUANG | JIA-HONG
HUANG | JIAN | CHENG
HUANG | JIASHENG
HUANG | KUANG | HUI
HUANG | PATRICK
HUANG | SHECI
HUANG | SIN | CHEN
HUANG | TAMMY
HUANG | YU-CHEN
HUBER | ERIK | DANIEL
HUBER | NICKLAUS | HANS
HUDSON | PAMELA | M.
HUELCK | KATHRIN
HUGHES | KATHRYN | RHIAN
HUGHES | RITA | A.
HUNG | LING-CHUN
HUNTER-JONES | JAMES | PATRICK
HURFORD | RACHEL | MARGARET
HURLBURT | OLIVE | MARIE
HUSTERT | SEBASTIAN | JOHN
HUSTING | STEVEN | JOSEPH
HUTTON | JOHN | JOSEPH
HUTTON | LORRAINE | M.
HWANG | YOUNG | H.
IBSEN | NORA | BERGLIOT
ICHIKAWA | ATSUKO
ICHIKAWA | HIROSHI
ICHIKAWA | TAKAKO
IIYN | DAVID | ANDREW
IKAI | MASATO
IKAI | YOSHIKO
IM | SUZY
IMHASLY | MICHEL
INAMI | CHIEKO
INAMI | SHUJI
INOUE | MAYUMI
INOUE | YUKI
INUZUKA | SADASHI
IONESCU | ANGELA | VENERA
IONESCU | NICU
IP | WING | PING SANDY
IRANI | ZUBIN | J.
IRVING | KATHY | SUE
ISHIHARA | YURI
ITO | TAKASHI
ITZKOVICH | JUDITH | SIEGEL
IVANYI | KATALIN
IWAMURA | NOBUKO
IWASAKI | YOSHIHISA
IWASAKI | YURIKO
IYER | INDUBALA | V.
JABER | JAD | RABAH
JACOBSON | CHRISTINE
JACQUET | VERONIQUE | MARIE
JAENCHEN | NICOLE | C.
JAENCHEN | TOBIAS
JAMES | SHAUN | PATRICK
JANES | HILLARY
JAOUEN | MARION
JAROSSI | ROBIN | VINCENT
JARRETT | JOHN | D.
JARRETT | MADONNA | L.
JAYA | YANTO
JEFFERIES | PAMELA | Z.
JENKINSON | GEORGE | ANTHONY SAMUEL BANKS
JENSEN | FRANCES | ELAINE
JENSEN | JOHN | TILLOTSON
JENSEN | MARGARET | STONG
JENSTER | CARL | CHRISTIAN VILLENDRUP
JEON | WON | KYUNG
JEWEL | YOKO | H.
JEWITT | SAM | OLIVER
JHALA | PRADHUMAN
JHIN | JOANN | EUN YOUNG
JIANG | HONG
JIN | JING
JING | QI
JOGGI | JOELLE | KIMBERLEY
JOHNSON | ADAM
JOHNSON | KODY | LAYNE
JOHNSON | MARGARET | A.
JOHNSTON | STUART | G.
JONES | BENJAMIN | MARTIN
JONES | JENNIFER | S.
JONES | JENNY | VIRGINIA
JONES | JONATHAN | CHARLES KVILJORD
JONES | MARILYN | GAIL KVILJORD
JONES | MAURICE | ANTOWAUN
JONES | NEIL
JONES | RHIAN | H.
Jonkman | Julie | Ann
JORDAN | MADILYNN | A.
JORDAN | MARY | ANN
JORO | TARJA
JOSEPH | ANAIS | VIOLETTE
JOYCE | JOHANNA
JU | JIANDONG
JUDEAUX (BERNARD) | SYLVIANE
JULIEN | LAURA | ELISABETH
JULIEN | MATHIEU
JUN | MI | YUNG
JUNG | DANIEL | PARK
JUNG | HSIAO | MEI
KACHRA | ARIFF | M.
KAEGI | RAPHAEL
KAHYA | SAMI | ARI
KAKIHARA | NORIE
Kalin | Kathleen | Dorothy
KAMAT | PRIYA | RUKMINI
KAMEDA | TOMOKO
KAMINSKI | ALEXANDRA
KAMPHAUSEN | ALISA
KANAGAWA | FUMIHIKO
KANDA | JUNKO
KANEKO | EMI
KANEKO | YASUKO
KANETA | MITSUYO
KANG | DAE | JIN
KANG | JINOK | KIM
KAREKIAS | CHRISTINA
KARINO | SACHINKO
KARINO | TOMOHIRO
Karlson | Jeffrey | Scott
KASAHARA | AKIKO
KASBERGEN | JOHANNUS | CORNELUS MARIA
KASTNER | DILLION | GABRIEL
KATCHALUBA | MARIA | CRISTINA
Kates | Stephanie | Rebecca
KATZ | JUDITH | MARGARET
KATZ | SAMSON | ROBERT
KAUSHAL | BALINDER | KRISHNA
KAVURI | RADHIKA | RANI
KAWA | HIROSHI
KAWA | JUNKO
KAWAMURA | HIDEKO
KAWAMURA | TAKEO
KAZI | MUSHARAF | S.
KAZI | NABILA
KAZI | ZARA | M.
KEARNEY | CATHERINE | A.
KEARNEY | MARYANNE | KAREN
KEIGHTLEY | Alexander | James
KEIJER | NINA | MARCHIEN
KEIJER | THOMAS | BEREND
KEITH-KING | SHERRY | MEREDITH
KEK | YOKE | MENG
KELLO | ESTEBAN
KELSEY | KAORU | O.
KENNEA | YVONNE | MARGARET
KENNEDY | ALEXANDER | JAMES
KERSTEEN | GRIZELDA | SARAH
KERZINGER | ROLF | PETER
KESHAVARZ | PEDRAM
KESLER | OLIVERA | ELIZABETH
KFOURY | MARCEL
KHADER | NAIM
KHALID | ABDUL-AZIZ
KILBANE | CAROLINE
KILBANE | MICHAEL | GERARD
KILLEWALD | SIDNEY | MAYA
KILLIAS LEUTWILER | LORETTA | MARIA
KIM | CHRIS
KIM | DUCK | JU
KIM | HEATH
KIM | HYUN | SOO
KIM | HYUNSOO
KIM | JAMES | TAE YUN
KIM | JEONG | MEE
KIM | JESSICA | HYO-JUNG
KIM | JIYOUNG
KIM | SANG | KYOM
KIM | SOON | HEE
Kim | Woo | Sung
KIM | YONG | WON
KIMURA | MIHOKO | KATHARINE
KINDLER | NORA
KINDLER | THOMAS
KINKELA | DANIEL
KINRADE | CLIVE | V.
KINRADE | MHAIRI
KIRCHHOFFER | TAREK-FABIAN
KIRKBRIDE | GORDON
KIRKPATRICK | TOMOKO | U.
KITAGAWA | MASAHISA
KITAGAWA | YOKO
KITAMURA | SAKAE
KITANAKA | MIYEKO | RUTH
KITCHENER | ANTONY | M.
KJELSRUD | HANS | C.
KLASSEN | JOANN | ELAINE
KLEE | SIMONE
KLEIN | THERESA | CHRISTINA MICHAELA
KLEINSTUECK | DOMINIK | MARIUS
KLINE | SALLI | JANE
KLINGELHOFER | ANGELIKA
KNATCHBULL | AMBER | DIANA PATRICIA
KNATCHBULL | MILO | COLUMBUS JOHN
KNATTEN | HANNE
Knight | Craig | Randall
KNORR | CORI | ANNE
KO | NAI-WEN
KO | TAEWOONG
KO | TAK | YAN ANSON
KOCHER | SORAYA
KOEDA | YUKO
KOEHL | STEFAN | LEWIS
KOENIG | BERNARD | PAUL
KOENTGEN | BIANCA
KOIVUMAKI | LIISA | HANNELE
KOIZUMI | MITSUYA
KOIZUMI | NAOMI
KOLENDA | PAUL | JAMES
KOLIVARIWALA | SHIREEN
KOLLINTZAS | EVANGELOS
KON | SHINTARO
KOPPEL | RICHARD | MARTIN
KORDA | CEDRIC | JAMES
KOREEDA | RIKA
KOTANI | KAXUO KAZUO
KOTANI | YASUKO
KOTILAINE | JENNIFER | BAKER
KOURANOV | FEDOR | N.
KOURANOVA | ALEXANDRA | A.
KOWING | HWAY | ZEAN
KRAG | ANDREW | GEORGE SEVERIN
KRAL | TOBI | V.
KRAMME | ANNABELLE
KRAUTHAMMER | MICHAEL | O.
KRAWITZ | MARTIN | A.
KREMENLIEV | GEORGI | VESSELINOV
KREMER | HERMAN | ALEXANDER GEORGE
KRENN | RICHARD | J.
KRIEGER | RALF
KRIJGSMAN | HENRIETTE | TAETSKE JOHANNA
KROL | WOJCIECH
KRONENTHAL | MELISSA
KROTO | MARGARET
KROTO (DECD 4/30/16) | HAROLD | W.
KRUEGER | KIMBERLEY
KUCHER | TRENT | S.
KUDO | AYUMI
KUIJTEN | JOHN | P.
KUIPER | ESGO | TACO
KUMAR | SANJEEV
KUNDE | KIRSTEN
KUNKEL | PATRICIA | MARIE
KUNZ | ALEX | ANDREW
KUROKWA KUROKAWA | TORU
KUTSUKAKE | NAOKO
KUTSUKAKE | YOSHIHIKO
Kwan | Christen | Lee
LA FORTUNE | MICHELLE
Lacaze | Brigitte
LACHANCE | MARIE-CLAUDE
LACK | YUKO
LACOMA | YOLANDA
LACY | MARGRIET | B.
LADAGE | ANGELIQUE
LADEBAT | LIONEL | JOSEPH
LAEDERICH-MCALEE | LIOUBA | JEANETTE
LAENGRICHT | DIRK | FRITZ
LAFFERTY | CALLUM
Lai | Chung | Fat
LAI | SHENG
LAIDLAW | FERGUS | RICHARD PLAYFAIR
LAING | DONALD | G.
LAKE | TOVE | E.
LAKIN | ERIC | DANIEL
L'ALLEWMAIN | VIRGINIE | CAROLINE
LAMARE | STEVEN | EDWARD
LANG | SYLVIA | H.
LANGFORD | WILLIAM | BENEDICT
LANKENAU | ROBERT
LANNOY | GUY | GERALD
LAO | BAOMU
LAOHAVALEESON | EKARAT
LARDON | NICOLE | EVELINE
LARRETT | ANNE | CATHERINE
LARRINAGA | MARTA | BEATRIZ
LARSEN | HANNE | PICO
LASBY | KATHERINE | TAYLOR
LASNET | CECILY
LATRY | CAROLE | LYNN
LATRY | CORINE | EMILY
LAU | JOEL | KAI-XIANG
LAU | KIN | N.
LAUDIEN | ANDREA | M.
LAURENT | CLAIRE | FRANCOISE GENNY
LAURIE | AVRUM | STEPHEN
LAVANCHY | ZACHARY | ALEXANDRE
LAWRENCE | DANIEL | PAUL
LE COENT LASRY | VIVIANE
Le HYARIC | BRIGITTE
LEA | ANDREW | PAUL
LEA | ERIN | JULIANA
LEASK | IAN | C.
LEBRUN | PAUL | A.
LECLERC | DENIS
LEE | ALEXANDER
LEE | BYEONG | H.
LEE | CAROL | S.
Lee | Chi | Won
LEE | CHI-YU | GREGORY
LEE | CHRISTOPHER | JIA YAN
LEE | CHUNG | ON
LEE | ERIN | SUE HYUN
LEE | IN-JIN
LEE | JACQUELINE
LEE | JEAN
Lee | Jeong | Ae
LEE | JUNGSIM | K.
LEE | MYUNG | J.
LEE | SHIH-CHANG
LEE | SOYUN
LEE | YONG | HO
Lee | Yoomi
LEECH | ROBERT | H.
LEFEBVRE | LIONEL
LEFEBVRE | MICHELE | ALINE
LEITE | ANA | LUISA
LEJINS | ILMARS | ATIS
LEMMON | TIMOTHY | R.
LEPATSKI | CATHERINE
LEQUOY | EDMEE | LAURENCE
LERNER | ELISABETH
LEROY-TURMEL | CHARLOTTE | GERMAINE
LESUR | MARINE
LETAC | CHRISTOPHE | STANLEY
LETOURNEUR | DIANE
Leung | Tiffany
LEUNG | VICKY | W.
LEVERSHA | SIMON | D.
LEVI | GEORGE
LEVIN | MARTIN
Levitt | Ian | Michael
LI | JIAN
Li | Kim | Pang
LI | QIAN | QI
LI | Tzu | Chun
LI | WING | YING H
LI | XING
LI | XING
Li | Yinghao
Li | Yinghao
LIANG | CHENG-PO
LICHTSTEINER | BENNO
LIEB | CHRISTOPHER | E.
Lightburn | Jeffrey | Thomas
Lightburn | Patricia | Mary
LIM | ALLAN | M.
LIM | ISELER | YING CHEY
LIM | NAOMI | SHI-NING
LIN | HAIFENG
LIN | HIS-YI HSI-YI
Lin | Jerry
Lin | Johnson | Loong Hsien
Lin | Michael | C.
LIN | SHYR-YI
Lin | Winy | Yuan Yin
LIN | Y.L. | ALLIX
LIN | YIMIN
LINDNER | NADJA | MARIA
LINDSTROM | LARS | M.
LINGHORN | ERIKA | BRONWYN
LIPPINCOTT | ANJA
LISKA | MANFRED | R.
LIU | ANGELINA | Y.
LIU | CHANG-CHU
LIU | DE | JIN
LIU | MING-HSING
Liu | Samuel | Muhsuan
LIU | TIANWEN
LIVINGSTONE | DANIELA
LIVIUS | RONALD
LO | KWOK | CHUEN STEPHEN
LOCHERY | EMMA | CHARLOTTE
LODEWIJK-HAKKER | SANDRA | LOUISE
LOGALBO | AMY | ELIZABETH
LOGIE | SUSAN | P.
LOHR | BERTRAM
LOHREY | YUKA | M.
LOOI | REUBEN | WEN YI
LORCH | JOSHUA | MORDECHAI
LOSEV | DOLLY
LOTTERER | ALEXANDER
LOU | LIAN | HWEE
LOUAHEMMSABAH | NASRUDDINE
LOVE ZEJDL | BRENDA | BILLINGS
LOVERING | GAIL
LOVERING | ROBERT
Low | Celestee | Wan Xin
LOZACHMEUR | DIDIER | RENE
LU | JUWEI
LU | WEIMING
LUBBOCK | JULIUS | ALAN
LUCAS | ROSALIE | ELAINE
LUCAS | WINSTON
LUCKE | ANDREA | SUZANNE
LUDER | PHILIPP | RETO
LUIJK | AUTUMN | VICTORIA SANNIE-LISA
LUNDBERG | SOPHIA
LUO | FUYUE
LUSCOMBE | JANE
LUTES | MARTIN | FRANCIS
LYBY | KNUT
LYMAN | MICHEL | PATRICK
LYNCH | Mindy | Suzanne
MA | YUNG | CHEN LU
MACARTHUR | FAITH | ANGELA
MACAULAY | BRUCE | H.
MACAULAY | FANE | ELIZABETH
MACAULAY | JOCELYN | E.
MacDonald | Frank | Alan
MACDONALD | JOAN | S.
MACDONALD | MARCUS | CLIVE
MacDONALD | ROSEMARY | DARLINGTON
MACLEAN | IAN | LOWRY COLE
MADER | ALEX | EMANUEL
MADURO | MICHAEL | JOHN
MAEDA | TEINA
MAEKAWA | YAICHIRO
Magee | Pamela | Ann
MAGNANI | ENRICO
MAHEUX | ANNE | FRANCES
MAHONY | JILL | LOUISE
MAING | MINJUNG
MAJEAU-BETTEZ | MARIE-LOU
MALLACE | DEBORAH | JANE
MALLADI | RAGHAVENDRA
MALTBY | GEORGE | CHRISTOPHER WILLIAM
MALTBY | RACHEL | ELIZABETH
MANGALGIRI | VICKRAM
MANKTELOW | JAMES | DAVID RICHARD
MANKTELOW | LUCY | EVELYN
MANNING | ERIK | GEOFFREY CYRILLE
MANZKE | ROBERT
MAPSTONE | CATHERINE | EMMA
MARAVAL | LAURENCE | I.
MARHOLEV | BOJKO | F.
MARINUSSEN | LISBETH | ELLEN
MARKERINK | ROBERT | GERHARD
MARKS De CHABRIS | LIONEL
MARKS-MARAN | DIANE | JOY
MARQUEZ | EILEEN | MARIE
MARRIS | MARTIN | D.
MARSHALL | ESTHER | MONIQUE
MARSHALL | HENRY
MARSHALL | KRISTIN
MARSHALL | LEONIE
MARTEL | PAOLO | ROBERTO MERCADO
MARTIN | JOANNA | ELIZABETH
Martin | Lauren | Susan
MARTIN | YVES | GASTON
MARTIN-BUSUTIL | RAMON
MASON | MARJORIE
MASON | PHILIP | J.
MASSAGUE | GERARD
MASSIER-HOONHOUT | NICOLE
MASTROPRIMIANO | DAMIEN | M.
MATHER | DAVID | ANDREW
MATHES | BETTINA | E.
MATSUDA | NAOKO
MATSUDA | REIKO
MATSUDA | YOSHIHISA
MATSUI | AKIRA
MATSUI | KAYOKO
MATSUI | SEIICHI
MATSUI | SHIGERU
MATSUO | MASAYUKI
MATTEINI | ARTHUR
MATTELAER | PIETER | A.
MATTHEWS, JR | ROBERT | BOWMAN
MATTHIESEN | RUTH
MATTICE | MAKIKO
MATTIE | JOHANNE | LIETTE
MATTSON | JAMES | ROBERT
MAUBOURGUET | VIRGINIE | FLORENCE MARIE
MAXRATH | LARS-OLAF | MICHAEL
MAY | ANDREW
MC Sorley | Wayne | Patrick
MCCABE | BRIAN
MCCALL | STEPHANIE | MARIA
McCullogh | Craig
MCDERMOTT | CATHERINE
MCDONALD | THOMAS | ALEXANDER
MCDOUGALL | TERHI
MCEACHERN | BEVERLY
MCGILL | BEVERLY | J.
MCGILL | JESSIE
MCGILLVREY | IAN | MICHAEL
MCGREGOR | LINDA | DARLENE
MCGUIGAN | MARY | L.
MCGUIGAN | MITCHELL | W.
MCINTOSH | RYOKO
MCINTOSH | STUART | J.
MCKAY | ANDREW | JAMES
MCKAY | BARBARA | J.
MCKELLAR | BRUCE | D.
McKenny | Patricia | Rae
MCKENZIE | CAROL | A.
MCKENZIE | WILLIAM | G.
MCLEOD | DARLENE | G.
MCPHERSON | JOHN | R.
McQUAID | KELSEY | PAULINE
MCRAE | SHAUN | DAVID
MCSORLEY | WAYNE | PATRICK
MEES | ALISTAIR
MEES | PAMELA
MEESSEN | BRUNO
MEHROTRA | PRAVEEN
MEIER | NATHANAEL | ELIAS
MEIKLE | GRACE | KAY
MEINCKE | FRANK
MELLOR | FARRIS | SCOTT
Melvin | Reine | Marie
MENDEZ | GLORIA | P.
MENEZES | DOMINGAS | T.
MENGES | JUDITH | ANN
MENON | RAGHUNANDAN | S.
MERCIER | ELISE
MESCHELOFF | ELI | YEHUDA
METAXES | VICTORIA | ELIZABETH
METCHEV | STANIMIR
METELIK | IRENE | ARUNATI
MEYER | FELIX
MEYER | MICHAEL | THOMAS
Meyrat-Schwoerer | Elizabeth | Katherine
MIAU | TSONG-TSONG
MICKLER | ELAINE
MIDDENDORP | RUDOLF | F.
MIDMER | ALICE | ELIZABETH
MIGNOT | YVELINE | ROGINE
MIHOK | RADOSLAV
Mikee | Luka
Mikucki | Edward | Joseph
MILLER | JANET | KAY
MILLIKEN | EMMA | LOUISE
MILNER | MARK | SIMON
MINASSIAN | JACQUELINE | GRACE GABRIELLE CARDINALE
MINEMATSU | SUMIKO
minematsu | toshiyuki
MINNEY-MCDOUGALL | FRANCES | L.
MINNIS | ALASTAIR | J.
MINNIS | FLORENCE
MINTON-BEDDOES | SUSAN
MIRANDA | NICK | SANDRO
MIRO | ADRIAN
MIRON | DAVID | J.
MIRON | LAURA | E.
MIRRIONE | ALESSANDRO
MISAWA | YUKIKO
MISLIN | JONAS | RENE
MITCHELL | PETER | JAMES
MITCHELL | VIOLAINE | SUSAN
MITSUISHI | AKIO
MITTAL | ANURAG
MIURA | ISAMU
MIYAZAKI | HIROSHI
MIZRAHI-MELLER | EMILY | SARAH
MIZUTANI | AYANA | STEPHANIE
MIZUTANI | SAYURI
MODLER | CHANTAL | MICHELLE
Moeller | Pernille Joy | Rosenstand
MOELLER-TELICSAK | SHAULA | ELANOR
MOGHADASSI | RAMYAR
MOHNING | TYLER | ALAN
MOK | Young | Mee
MOLESKI | TIMOTHY | L.
MOLLET | BERTRAND
MOLLET | JULIE | B.
MOLLOHAN | TODD | JAMES
Molloy | Scott | Lindon
MOLNER | NICOLLE | ELIZABETH
MOLONEY | EMILY | CLARE
MONKHOUSE | PETER
MONTGOMERY | TONY | KEVIN
MOORE | DAVID | KENNETH
MOORE | GRAHAM | J.
MOORE | ROBERT
MOORHOUSE | JOHN | PATRICK
MOORHOUSE | JULIA | HALLE
MORAD | OSMAN | T.
MORGAN | ANTHONY
MORI | MIYUKI
MORITA | KOICHIRO
MORITA | MACHIKO
MORLINI | VINCENZO
MORRIS | ERICA | R.
Morris | Jacqueline | Clara
MORRISON | KATHRYN | CECILE
Morse | Bradford | Wilmot
MORTON | HOLLY
MORVAN-STREETER | EMILIE
MORY | LUCIE-FAYE | MAITE JEANNE
Mosko | Cheyenne | Sheena
MUELLER | ANDRE
MUELLER | MAYA | ALENA
MUELLER | MICHELE | GABRIELE
MUELLER | ROMY | FAYE
MULDER | IRIS | WILHELMINA
MULLER | CHARLES
MULLEY | RANDOLPH | EDLAND
MULRONEY LAPHAM | CAROLINA | ANNE
MUNCH-HANSEN | BENEDICTE
MUNN | FRANCES | ELIZABETH SHAPIRO
MURAKAMI | EIKO
MURAKAMI | KAZUTAKA
MURALIDHAR | SRIKANTAIAH
MURAOKA | ISAO
MURAOKA | TOMOKO
MURDEN | GAIL | GRINNELL
MURPHY | NATALIE | ELIZABETH
MURRAY | ANNETTE | LOUISE
MURRAY | DANA | SCOTT
MURRAY | HELEN
MURRAY | JACK | ANTHONY
MUSTERS | REINIER | MICHAEL
MUTZKE | ANNE-CATHERINE
NABI | KAUSAR
Nadeau | Richard | Walter
NAEF-GRAF | REBEKKA | LILIANE
NAGAHISA | AKEMI
NAGAHISA | SHINZO
NAGAMINE | KENTARO
NAGAMINE | SHOTARO
NAGARAJAN | R.
NAGASE | YOKO
NAGATA | SATOSHI
NAHAS | MAY-GRACE | MARIE
NAKAJIMA | HIROKI
NAKAJIMA | JUNKO
Nakano | Ryo
NAKAYASU | SAWAKO
Nam | Nam | Young Park
NANAVATI | ANUJ
NASH | JOAN | I.
NASSOS | ANNELISE | KATHY
NATH | MEENAKSHI
Navarria | Jude | Thomas Kleila
NAYAR | ANJEETA | RAGHU
NEAGU | CLAUDIA
NEAR | KAORI | KOSHINO
NEGRETTI | RAFFAELLA
NELSON | KARLA | ELLEN
NEMO MALERBRA | MARIE-AUDE | JEANNE
NEMOTO | KENTARO
NESBIT | DAVID
NESTOR | SARA | E.
NEUMAN | MICHAEL | EDWIN
NEUMAN | SHIRLEY | ANN
Newbatt | Victoria | Marie
NEWHOUSE | NANCY | JOANNE
NGUYEN | DAVID | LAURENT VI-HUNG
NI | JINLEI
NICE | BRIAN | E.
NICHOLS | VALERIE | JOY
Nickell | Rebecca | Joaquina Arango
NICODEMUS | ANNE | HERRICK
NICOLAS | LUCILLE | SARAH
Niem | Grace
Niem | Lena
NIKKEL | CELESTE | C.
NIKKEL | RONALD | W.
NIKOLOV-MEYER | CHRISTINE | ELIZABETH
NISHAR | DEVANGI
NISHIDA | YOSHIKAZU
NISHIKAWA | KUNIHIKO
NISHIKAWA | SHIHOKO
NITSCHE | VALERIA | SUSANN
NODA | HIROYUKI | KAZUMA
NOFF | AYELET | KEREN
NOIRAT | DAVID | BRIAN
NOLAN | JANE | C.
NORMAN | JAMES | A.
Nottingham | James | Webster
NOVOVESKA | LUCIE
NUMATA | AKIRA
NUMATA | KUNIKO
NUNES | LAURA
NUNES | QUINTINO | M.
OBRIST | JURG
O'DONNELL | JACQUELINE
O'DONNELL | SHARON | DENISE
OEST | OLE | NYBYE
OGRYZLO | MICHAEL | STEPHEN
OGURA | MINEKO
OH | TAEKYUN
OHARA | KOJI
OHGA | MASAATSU
OHLER | UWE
OIEN | NANCY | C.
OKAMURA | TAKASHI
OKUNO | HIROKO
OKUNO | YASUO
OLIVER | ANTONY | PETER
OLIVER | JOHN
OLIVER | PAULINE
O'MAHONY | CATHAL
O'MALLEY | BRIAN
OMURA | NORIYUKI
OMURA | RUKA
OMURA | TAKESHI
ONG | CHIN-KAI
ONO | MIEKO
ONO | NORIKO
OOSTERHOUT | ROLAND | M.
OOSTERVEER | PETRUS | W.
OP DEN CAMP | LEONARDUS | ALOYSIOUS MARIA
ORFALY | ROLAND
ORHAN | HALIL | M.
ORTIZ | ALONSO
OSORIO | BRYAN | JUSTIN
O'SULLIVAN | MARY | A.
OTEVREL OTEVEREL | GABRIEL
OTO | ARATA
OTTO | PETER | FRANK
OUYANG | HAIYAN | H.
OXFORD | DAVID | CHARLES GUY
OZSAHIN | ESAT | MAHMUT
OZUPEK | CANAN
OZUPEK | GOKMEN
PAGNUCCO | DAMIANA
PAGURA | JINA | ELAINE
PALIDIS | ANASTASIOS
PALIDIS | SUSAN | E.
PALISCA | ANDREA | GIUSEPPE
PALM | NICOLAI | MAXIMILIAN
PALMER | SHAYNE
PALTZER | ROLF | ALLAN
PAN | PENGKAI
PANESAR | SONIA | K.
PANGBORN | ANTHONY | ROBERT
PARK | DONGUK
PARK | MI | JIN
PARK | NA | HYUN
PARK | SANG | M.
PARKER | MORGAN | A.
Parker | Nancy | Helen
PAS | DARAT
PASCHOALINI | FRANK | E.
PATEL | RAVI
PATEL | RHISHI
PATEL | RIDDHI
PATTEN | SHEENA | L.
PATTERSON | KIRK | RUSSELL
PAWLEY | JAMES | BINFIELD
PEASE | THOMAS | G.
PECOVER | LUCY
PECOVER | WILLIAM | G.
PEDERSON | LONE | MORCH
PEE | GIM | NEE
PEER | MORDECHAI | MATT
PEETZ-REZVANI | SABINE | C.
PEH | LI-SHIUAN
PEHRSSON | NICOLE | MARIE
PEIJS | JASPER | A.
PEIRCE | JOHN | WENTWORTH
PEKONEN | MIKKO | J.
PEMBERTON | SAM | W.D.
PEMBERTON | SUSAN | V.
PENG | JIE
PENINON | CAMILLE | MARIE
PENNYCOOK | STEPHEN | J.
PEPPAS | BESSIE
PEPPER | JASON | MEREDITH
PEREIRA | JOAOPAULO | R.
PEREZ | GARRETT | FOSTER
PEREZ | MARIA | G ACUNA
PERLE | JACQUELINE | S.
PERO | VALENTINA
PERONNET | BENJAMIN | THOMAS
PERRIN | JESSICA | LILAS MARIE
PERVILHAC | CHARLOTTE | MARIE
PETCH | CHARLES | CHANDLER
PETEL | MIRI | GALIT
PETER | KAREN | J.
PETER | RICHARD
PETERS | ELAINE | MARSHA
PETERS | GORDON | H.
PETIT | EMMANUEL | J.
PFAU | SEBASTIAN | HENRI
PFAU-DILLON | ERIN | STAFFORD
PFISTER | ALEXANDER | GREGORY
PFISTER | NICOLE | ISABELLE
PFISTER | STEFAN
PFLUGER | JAMES | PAUL
PFUHL | HELEN | ANNE
PHALON | ASAKO
PHILLIPS | MARIE | L.
PHILLIPS | MEREDITH | SARAH
Picci | Marco
PICHER | MARYSE
PICHON-VARIN | GERARD
PICKETT-HEAPS | AARON | JACK
PIERETTI | NIKI
PIKE | BARRY | LEE
PINHO | RODRIGO | S.
PINHO | VANESSA | O.
PINTO | SARA | ALEXANDRA GASPAR PEREIRA
PIPIEN | ELERI
PIQUET JR | NELSON | A.
PIRRE | ANNAMARIA | SALBATRICE
PLASCENCIA | JUAN | J.
PLETZER | ALEXANDER
PLETZER | TAMARA | O.
POIRRIER-HAMON | ANNE | MADELEINE
POKHREL | JENNIFER | ILENE
POLACK | FERNANDO | P.
POLDERMAN | CYNTHIA | ANN
POLDERMAN | MONIQUE
PONTON | APRIL | SKY DUNLOP
POON | DEREK | W.
POPOV-DIHOVICNI | SIMONIDA
POPOVIC | MATEJA
POSTIF | SOPHIE | J.
POWELL | GERARD | ARMOND
POWELL-PORTEOUS | SHEILA
PREDKI | GARY
PREDKI | JOANNE
PREISS | LAURA
PRESTWICH | CAMILLA | ALICE
PRETTEJOHN | ELIZABETH | FRANCESCA
PRICE | JULIE
PRICKETT | BARBARA | M.
PRIEST | GARETH | R.
PRIEST | RUTH
PRIOR | KATANYA | CAROLYN KOLSTOE
PRIOR | STEPHEN | KENNETH
PROBST | JULIE
PROVOOST | GRETA | L.
PSUTKA | JOHN | F.
PUNCHARD | JANE
PUNCHARD | WILLIAM | F.
PUTSCH | KATARINA
Qassab | Roua | Al
QIDWAI | HAYAT
QIDWAI | TAYYABA
QIN | XIUYUN
RABBI | MASSIMILIANO
RADEMACHER | DANIELA | SUZANNE
RADERMACHER | WILHELM | A.
RADKE | JAMES | M.
RADUL | JAMES | ROBERT
RAFFELSBERGER | JAMES | GUENTHER
RAINER | RICHARD
RAJAMAA | ELINA
RAJAMAA | MARKO | M.
RAMOS-CURRAH | GABRIEL
RAMOS-CURRAH | SEBASTIAN
RAMPTON | SHANNON | ELIZABETH
RAMSAY | LYNDA | ANN
RAMSHAW | MARTIN
RAQUIDEL | DANIELLE | COLETTE
Rattrie | Andrew | John
RAYANI | ZAHRA
RAYNOR | CAITLIN | HUGHES
RAZ | SAHAR
READ | CHRISTINE | R.
READ | DEREK | R.
REAY | ROBERT | GILBERT
REDCLIFFE | PATRICIA
REDCLIFFE | RAYMOND
REDD | ANNA | M.
REDDEN | SOPHIE | KATHLEEN
Reddy | Amar
REDLINGER-LIBOLT | CRISTINA
REGAL | PHILIP | JOE
REICH | MARSHA | LYNN
Reid | Anjyu | Carleigh
REINFRIED | HERBERT
REINFRIED-WETTSTEIN | KLARA
REINHART | KERRY | WADE
REIS | RICARDO
REMEDIOS | SALLY
RENNIE | DOUGLAS
RENNIE | JANET
RENTOWL | MELANIE
RENTZIOS | AMELIA | V.
REY | VINCENT | SEBASTIEN
REYES | DANIELE | ROBERT
RHEAULT | JULIETTE | M.
RHEAULT | REAL | J.
RHODES | JULIAN | DAVID
Richards | Rebecca | Ann
RICHARDS | STEVEN | WILLIAM JOHN
RICHARDSON | J JOHN | STEVEN
RIEDEL-FISHER | NELL | BEARD
RIEDERER | PATRICK | ANDREA
RINGWALD | BIANCA
RISTAINO | JOHN | LUCIAN
RITTER | ELIZABETH | CHARLOTTE
RITZENHOEFER | JONAS
RIZZO | GIUSEPPE
RIZZO | MARIA | ANDREA
Roach | Alsion
ROBERT | MARIE-HELENE | BOURGOIGNIE
ROBERT | MIGUEL | F.
Roberts | Jeremy | John
ROBERTSON | BRIAN | W.
ROBINSON | KEVIN
ROBLES | IVAN | ROGELIO
ROCH | WALTER | FRANZ ALFRED
ROCKINGHAM | EDITH | J.
ROCKINGHAM | JOHN | E.
RODGERS | LINDA
RODRIGUEZ | JUAN | JESUS
RODRIGUEZ | MARIA | R.
ROEHM | SANDRA | DANIELA
ROGERS | VALERIE | J.
ROH-DECLERCQ | CHANTAL | SUZANNE
ROIZEN | JACQUES
ROLL | JOANNA
RONDEAU | JOSEE
RONNHOLM | THOMAS
ROOD | KENNETH | M.
ROSAGER | KRISTINA
ROSENBERG | BEVERLY
ROSS | CAROLE | A.
ROSS | DAVID | L.
ROSS | GILBERT
ROSS | GLADYS | L.
ROSS | MANON
ROSS | MARTHA
ROSSBACH | SVEN
ROSSEN | ERIK | GRAY
ROSSI | EMMA | J.
ROSSI | GREGORY | P.
ROSZELL | LAURIE | JEAN
ROTH | TATUM | CHANEL
ROTHWALL | JAMES | GLENN
ROUGH | ALASTAIR | D.
ROUGH | CATRINA
ROUSSELLE | ALEXANDRA | VERONIQUE
ROWLAND | URSULA
ROWLANDS | AARON | J.
RUGOLO | NATASCHA | NOVELLA
RUSSELL | DAVID | JOHN
RUTHMANN | SABINE
RUTLAND | GRACE | CHARLOTTE
RYBAK | MICHAEL
RYFF | JULIA
RYMON | GAL
RYMON | RON
RYMON | TALIA
SABATE | BEATRICE
SADEGHI | ALI | MIR MOHAMMAD
SADEGHI | CHRISTINE | DIANE LEA
SADEGHI | HASSAN | ROGER
SADTLER | DAVID | ROTH
SAGIE-COHEN | AINAT
SAIKA | NANAKO
SAIKA | ROYOSUKE
SAITO | MAKOTO
Sakuri | Katsumasa | John
SALERNO | ALEXANDRA | MARIE
SALERNO | BETTY | ANN
SALIBA | JOSEPH
SALVI | KEVIN | MARC
Salviati | Maria | Olivia
SALVINI-PLAWEN | ALENA
SAMOILA-KOVACEVIC | DANIELA
SAMPSON | SOPHIA | ELIZABETH
SAMUELS | THEIPHILUS | L.
SANDBERG | RICHARD | A.
SANDFORD | GILLIAN | HANNAH
SANDILAND | ALLEN | E.
SANDILAND | GAIL | B.
SANDSTROM | INGELA | Y.
SANDSTROM | MAGNUS
SANGER | JACQUELINE
SANGER | SYLVIA | A.
SANTANDER DE FOERSTER | MONICA | C.
SARATZ | ANNIETTA
SASAKI | NORIKO
SASAKI | SAKAE
SASSON | JOSEPH | YOSSI
SATO | NAOYA
SATO | NORIKO
SAUNDERS | MARK | GEOFFREY
SAUTER | PETER | CHARLES
SAUTY | STEPHANIE | ANN
SAUVE | AARON
SAVAGE | REBECCA | CHRISTINE
SAYED | LEILA
Scaife | Jeanne | Elizabeth
SCHEIDEGGER | ANDREAS
SCHEWE | LES
SCHIAVO | ALEXANDRE | A.
SCHINDLER | ANGELIKA | URSULA
SCHLEYER | DANIEL
SCHLICK | SIGRUN | D.
SCHLOSSER | FELIX | JOHANNES VINCENTIUS
SCHLUMPF | NIKLAUS | THEODOR
SCHMELING | MIRIAM
SCHMID | ALEXANDRA
SCHMIDBERGER | CHRISTOPH
SCHMIDT | EIKE | D.
SCHMITZ | LUCAS-JOEL
SCHNIDER | CHRISTIAN | ALAN
SCHOOF | MARK | S.
SCHORDERET | JACQUELINE | RENEE
SCHRIVER JR | PAUL | JOHN
SCHUBERT | ANGELIKA
SCHULTZ | THOMAS
SCHULTZ-ILLEK | MANITA | ANGELIKA
SCHWARTZ | JAMES
SCHWIND | ROBERT | WOLFGANG
SCOFIELD | GRAHAM
SCOTT | DAVID | R.
SCOTT | LAURA-LEE
SCOTT-BEVERIDGE | CHARLOTTE | ELIZABETH
SCOTT-EDWARDS | ROBERT | EDMOND
SCUTCHINGS | SUSAN | L.
SEGER | Tobias | Max
SEIFERT | HAROLD | JAMES
SEMPLINER | LORRAINE | A.
Senkpiel | Elaine | Marie
SEOK | HEE | YOUNG
SERCARZ | IRIT
SERRANO | ANA | JOSEFA
SETIADARMA | RATNASISKA
SETUBAL | JOAO | CARLOS
SEUCAN | STEFAN
SEWELL | JESSICA
SHAH | ANJANA | P.
SHAH | CHANDRIKA
SHAH | DEEPA
SHAH | HIMANI
SHAH | SHANTILAL
Shalam | Emanuel
Shalit | Doron | Mordechai
SHARMA | NEELADEVI | SANJAY
SHARMA | SANJAY
SHARP | JANICE | J.
SHARPE | ELIZABETH | VERONIKA
SHASHOUA | DORIS | ALBERTA
SHEEDY | MAURAH | LISA
SHEEHAN | MARGUERITE | RUTH MARIE
SHEEHAN | NIALL
SHELDRAKE | ROGER | F.
SHELLITO | MICHAEL | JAMES
SHELTON | SUSANNA
SHEPPARD | MARTHA | L.
SHIBUTANI | NAOMI
SHIBUTANI | SHINYA
Shields | Candice | Patricia
SHIELDS | DINAH | JANE
SHIELDS | JOHN
SHIM | JAE | DOO
SHIMA | CHIKAKO
Shimada | Mitsuru
SHIMOJO | MASASHI
SHIN | Paul | Junseo
SHIN | SEUNG | KOO
SHINGNE | GEETA
SHINOHARA | SATOMI
SHINOHARA | SHIGERU
SHITABORI | KIMIKO
SHLIMON | KATRINE
SHRIVE | ANDREA | CLAIRE
Shu | Tao-Tze
SIAH | RYAN | KWEI-PING
SIDER | JUDY | N.
SIDHU | JAGMIT | K.
SIEGEL | MICHIYO
SIEREVELD | FRANK
SILKSTONE | SUSAN | LESLIE
SILLERY | YOLETTE | M.
SILVA | KATRIONA
SILVA | VINICIUS | S.
SIMCOCK | DIANNE | JUDITH
SIMMONS | RHONDA | JANET
SIMONS | JONATHON
SIMPSON | DAVID | A.
SIMS | DANIEL | PAUL
SIRCH | ERIKA | L.
SIS-KLUZIK | JEANNE | MARIE
SIVANADIYAN | NIRANTHARI
SKEEN | AMANDA | M.
SMART | JOHN
SMIT | MARTINA
SMITH | ALISON | JILL SIMONE
SMITH | CLINTON | WARREN
SMITH | IAN | ROGER
SMITH | JEAN | E.
SMITH | PIERS | PATRICK KINGSTON
SMITH | RHODA | J.
SMITH | WILLIAM | STEWART
SMYTH | FIONA | A.
SNADDON | JUDITH | E.
SOCASH | RYAN | ANTHONY
SODERQVIST | LOVISA | M.
SOLES | TRINA | MARGARET LARSEN
Solod | Lynne | Ann
SOMEK | ALEXANDER
SOMEK | DANIELE | SABINE
SOMEYA | MASATO
SOMIYA | HIDEKAZU
SONDROS | Talis | Arnis
Song | James
SORENSEN | MORTEN
SOROTZKIN | ZEEV | MEIR
SOSSIDIS | NICHOLAS | J.
SPANNER | ALAN | R.
SPEARS | JEFFREY | T.
SPECTOR | KYOKO
SPENCER | JAN BRYON | C.
SPENCER | MARK | WARREN
SPENCER | MIRIAM
SPEYER | PETER | C.
SPIEGEL | TRACY | LEE
SPIERS | STUART | W.
SPINELLI | ULRICA
SPOTORNO | ALESSANDRO | ANGELO
STAFL | LENKA | JANA
STAHL | HJOERDIS | ULRIKE
STECH | ADA | JOANNA
STECK SCHEIDEGGER | GISELLA
STEENHAUT | KEBIN | CHRISTOPHER
STEIN | DAVID | HARRY
STEIN | DIETER
STEINBACH | MICHAEL
STEINBERG | FREDRIC | MURRY
STEVENSON | ALASTAIR | L.
STEVENSON | FELIPE
STEVENSON | JHORDAN | ARIUS
STEWART-TAUCHE | REBECCA | QUINCY
Stimson | John | Adrian
Stobbe | Daniel | John
STOBY | LARA | AGAR
STOHR | JOHANNES | JACQUES MARTIN
STOLL-DUGAN | BETTINA | M.
STONE | CLAIRE | KIMBERELY
STOTT | SARAH | ELIZABETH
STOVER | LINA | JOSEPHINE
STRASSER | SANDRA | ELISABETH
STRATTON | DONALDA
STRAUB | KATHRYN | ELIZABETH
STRAUSS | CHIKAKO
STRESAU | RICHARD | WHITNEY
STUCKI | TOBIAS | MARTIN
STUPARYK | MELANIE | E.
STURT | HILARY | NAPIER
Su | Erin
SUDITA | I. | MADE
SUDMANT | SANDRA | RUTH
SUGAWARA | YURIKO
SULLIVAN | EDMUND | VINCENT
SUMI | KOICHI
SUN | HAO | H.S.
SUN | ZHIWEI
SUNG | ALAN | Y.
Sung | Kennix | Tsu-Wei
SURI | VIVAN
SUTER | KYOKO
SUZUKI | AKIKO
SUZUKI | GEORGE
SUZUKI | KAZUMICHI
SUZUKI | MAKOTO
SUZUKI | NOBUYUKI
SUZUKI | SHOKO
SUZUKI | TOMOKO
SUZUKI | TOSHIO
SUZUKI | YUMARO
SWAINSON | LESLIE | SHAUN
SWALLOW | CLAIRE
SZABO | JASON | L.
SZEREMETA | SEAN
TAGAWA | KAZUE
TAGAWA | KOKICHI
TAGLIANI | ALEXANDRE
TAI | SHIH | YAO
TAKAHASHI | MASAHIKO
TAKEMOTO | KOH
TAKIGAWA | YASUSHI
TALAALOUT | ABDELKRIM
TAMIAKI | MICHIKO
TAMMEN | MARGOT | H.
TAMURA | KAZUAKI
TAN | CHER | SIEW
TANAKA | JUNKO
TANAKA | KOICHI
TANCON | ANGELA | NOELLE
TANDON | MANAS
TANG | CHIA | C.
TANIE | HIROSHI
TANNER | EVA | JOANNE
TATEISHI | TOMONORI
TAYLOR | AIDHAN | TOBIAS
Taylor | Jessica | Anne
TAYLOR | MARILYNN | CHRISTENE
TAYLOR | SUSAN | SCOTT
TEDRICK | CRISTINA | R.
TEELAND | WALTER | FRANKLIN
TENOT BENOIT | CECILE | MARIA SUZANNE
TERADAIRA | TOKUKO
TERASAKI | TAKAKO
TERASAKI | YASUO
TERRY | ELAINE
TERRYN | NICHOLAS | ALEXANDER
TESLER | JUDY
TESTELIN | CLEMENCE | CLAIRE-CHANTAL MARIE
THAM | MAY YEE | A.
THAWER | FARGN | FERID
THEAN | VOON | YEW
THIBAULT | JACQUES | P.
THIEME | CHRISTIAN
THOMAS | BRIAN | SCOTT
THOMPSON | JACK | SAMUEL
THOMPSON | PAUL | R.
THOMPSON | VICKI | J.
THOUVENIN | SUNITA | CHLOE AUDREY
TICZON | IVY | JO. D.
TIMMS | MICHAEL | J.
TIRIAC JR | ION | ALEXANDRU
TJAHAJA | AMIR
TONER | ADAM | J.
TONG | KA | M.
TONG | PAULINE | PO LAN
TONKS | RICHILDIS | MARY HARRISON
TONSTAD | FREDRIC | BENJAMIN
TOOP | MURIEL | JEAN
Tosi | Paola | Maria
TOSUN | TOLGA
TOUCHE | PETER
Townsend | Judith | Una
TRAMBLE | RASHUNDA | RENEE
TRAN | THE-MINH
TRAVERSI | FERDINANDO | PIETRO
Trgovac | Katherine | Lesile
TRIM | KERRYN | C.
TRIM | LINDA | G.
TRINH | XUAN | MINH
TROPPER | YEHIEL | MOSHE
TRUYENS | EELKO
Tsai | Christopher | Cheng-Ru
TSAI | KUAN-SHI
TSAI | LING-YEN
TSENG | JOSHUA | SHI-HAO
TSUZAKI | HITOMI
TSUZAKI | KENJI
TU | FENGFENG
TUELLER-MUELLER | CLAUDIA | CHARLOTTE
TUINMAN | ROB
TURCOTTE | MARIE
TURLAPOV | ANDREY | V.
TURNBULL | STUART | M.
TYACKE | JAMES | A
UEFFENGER | FRIEDRICH
UEFFINGER | MONIKA | E.
UEHARA | HIROSHI
URSINY | PAVEL
USON | JUAN | M.
VALDES-SCOTT | HUGH | DAVID ROBERT
VALENTA | MARCUS | ANTONIO FERBER
VAN DE FLIER | RUTH | M.
VAN DE STEENE | JET | CLAUDINE
VAN DER KNIJFF | SUZANNE
VAN DER SCHEER | JOKE
VAN DER VEEN | INA
VAN DER VEGT | JEANNETTE | M.
VAN NIEUWKERK | JAN | ADRIAAN
VAN ROMPAY | LUCAS | R.
VAN SANTEN | GERT
VAN SANTEN | RAYMONDE
VAN VELDHOVEN | ZAHRA | CAROLINE
Vanthielen | Barbara | Lily
Varan | Aiden | Kennedy
VARDAKIS | DEBORAH | LABRINA
VARGA | LASZLO
VARGHESE | DEEPA
Varidel | Debbie | Jean
VASSALINI | MONICA
VELIOTIS | PAULETTE
VENDITTI | SAMUEL | LI
VENTORUZZO | MARCO
VENTURINI | MONICA
VERDEAUX | JEAN-JACQUES
VERSPIEREN | CHRISTINA | ALEXANDRA
VETTERLI | OLIVER
VETTOR | ALESSANDRO
VIERSET | SEVERINE | MARIE
Vieser | Linley | Conrath
VIG | JACQUELINE | A.
VIGUS | BRIAN
VIGUS | GERALDINE | G.
VIGUS | MICHAEL | B.
VILLALOBOS OROZCO | SANDRA | LORENA
VITORINO | MARIA | ANA
Vlemmings | Nina | Cecilia
VOADEN | ROSALYNN
VODDEN | JAMES
VOGEL | TOMOKO
VON BUCHWALDT | BENNO | KARL ERIC
VON BUEDINGEN | HANS | CHRISTIAN
VON ENGELHARDT | ALEXANDER | KRONSTANTIN FRANZ BARON
VON SALIS-BILFINGER | HEIDI | ELISABETH
VON SALVINI PLAWEN | ALEXANDRA
WACKERNAGEL | PATRICIA | RUTH
WAGNER | LAILA
WAGNER | NANCY | LYNN
WAGNER | NELSON | GAINS
WAGNER | SUSANNE | RUTH
WAIDZUNAS | DANIEL | KONSTANTIN-GUSTAV
WAKEFIELD | BRYCE | A.
WALACAVAGE | CRAIG | KENNETH
WALKER | COURTNEY | J.
WALKER | FRITH | JEAN
WALKER | LYNN | CARLISLE
WALLACE | JAMES | RICHARD
WALLACE | SARAH | ELIZABETH
WALLNER | LYDIA | MATHILDE
WALLRAFF | ALEXANDER | JOSEF
WALT | LESLIE | ANN
WALT | SCOTT | RAYMOND
Walther | John | Karl
WANG | HONGYAN
WANG | HSIAO | WU
WANG | JINCHU
WANG | Karin
WANG | LEI
WANG | XIUXIAN
WANTMAN | ADAM | CRAIG
WARD | GREVILLE | V.
WARD | TERRY
WARKENTIN | JOHN | DONALD
WARMBRUNN | SANDRA
WARREN | CHRISTOPHER
WASER | SABRINA | REGULA
WATT | JAMES | HARRINGTON
WATTERS | CLINT | ANDREW
WAYMAN | KATRINA | LOUISE
WEBB | ROLAND | HUMPHREYS
WEBER | MARA | J.
WEDER | ANDREA | C.
WEDER | MARKUS | C.
WEIBEL | ADAM | ROBERT FRIEDRICH
WEIBEL | LYNN | THOMPSON
WEINRAUCH | JOHN | RICHARD
WEISS | BARBARA | IILYA
WELFARE | LESLIE
WELFARE | RICHARD
WELLER JONKERS | SHARON | RUTH
WELLS | KRISTA | DIANE
WEN | HAO
Wen | Jing-Kai
WENK | MARKUS | RENE
WENKER | CHRISTIAN | JOHN
WENNER | LESLIE | BARBARA
WENTZEL | RICHARD | GUY
WEYENETH | KARL | EMMANUEL
WHALEN | PETER | LYNN
WHAN | KEVIN | W.
WHITE | SIMON | LUKE
WHITEFOORD | DANIEL | CALEB JAMES
WHITFIELD | CHARLES | P.
WHITFIELD | CHRISTOPHER | JOSEPH
WHITTON | LAURA | JANE
WHITTUM | KINUKO | S.
WICKWARE | SHOKO
WIDMER | HANS | PETER
WIECKOWSKI | VOYTEK
WIENER-BLOTNER | DAVIR | AMITAI
WIESS | JORDAN | FRED
WILLEFERT | AMY | LAURE
WILLIAMS | ILSE
WILLIAMS | LUKE | ALISTAIR
WILLIAMS | ZOE | HANA TEBOHO
WILMOT | EVELYN | GAYLE
WILSON | KATHARINA | ANNA
WIMMERS | SARA | ELIZABETH
WINISTOERFER | MARTIN
WINISTOERFER | PATRICIA
WINSBORROW | ERIC
WINSCHIERS | OLIVER | H.
WISK | ANGIE | L.
WITKOS | KATARZYNA | MARIA
WOLBERGER | ILAN
WOLF | ILEANA | ANN
WOLF | JEANNIE | CAROL
WOLFE | ANTOINETTE | HELENE
Wong | Chin | Yan
WONG | EMILY | Y.
WONG | HANG | F.
WONG | PUI | JAN
WONG | ZACHARY | JIANN TSONG
WOO | BYEONGJIN
WOO | EDMOND | M.
WOODY | SHEILA | ROXANNE
WOOLLARD | ADDIE | ERLENE
WORRINGHAM | CHARLES | J.
WORTLEY ALDRIDGE | CLAIRE
Wren | Ethan | Peter
WRIGHT | DAVID | SIMON
WU | CHOY | KUAN
WU | CHUNG-HSIEN
WU | PONG | TWAN
WU | REBECCA | YUAN
WUERTZ | STEFAN
WUEST | VERONIKA
WUTTKE | GREGORY | J.
XIAO | YI
YABE | HIROYUKI
YALA | ABDELHAMID
YAM | WAN | HANG CHU
YAMADA | JUNJI
YAMADA | TAKASHI
YAMADA | YUKARI
Yamaguchi | Sean
YAMAKAWA | YOSHI
YAMAMOTO | YASUHIKO
YAMAMOTO | YOSHIHISA
YAMANAKA | AKIKO
YAN | FANG
YAN | HONG
YANG | CHIUNG | MING
YANG | CUIHUA
YANG | LI | FANG
YANG | MEI-JUNG
YANG | MINGJIA
YANG | YIMING
YARBROUGH | GISELE
Yasuda | Sara
YASUR | DOR
YATES | JILL | ALYSON
YEE | ANDREW | BRYCE
Yellin | Simon | L.
YEO | EUN | JUNG
YEO | JING | YING CHERISH
YEO | WEE-PIN
YEOMANS | DAVID | WILLIAM
YI | YOUNGHYUN
YOKOYAMA | MASAKAZU
YOO | HITOMI
YOO | HYUCK
YOON | ALEXANDER
YOON | CHEONGMI | T.
YOON | DANIEL
YOON | JACLYN
YOSHIMURA | CHISATO
YOT | PATRICK
YOU | DONGHYUN
YOUNG | CHRISTINA
YOUNG | NINA | JANE
YU | ALICE
YU | JIANYING
YU | LIJIA
YU | SHIH-YIN
YU | WEIJIANG
YU | YUEH-O
YUASA | HISAO
YUCHENGCO | MARCUS | DANIELLE
YUONESS | SALEM
ZABIN | HAL | BRADLEY
ZACHARIASSEN | ZOE
ZAFFIS | JOSHUA | GEORGE
ZAFOREK | ALEXANDER
ZANRE | RICARDO | G.
ZAVITZ | MARY | JANE
ZAWADZKI | CAROLINE
ZEHNDER | GERTRUD
ZEIDLER | ROBERT | M.
ZEJDL | MARK | KVETOSLAV
ZELLER | MICHAEL | BRUNO
ZELLWEGER | CHRISTIAN
ZEUS | GABRIELE | G.
ZHANG | QING
ZHANG | XIEPING
ZHANG | YAN
ZHAO | ZHU
ZHENG | WEIKANG
ZHENG | YU | HONG
ZHONG | QIZHOU
ZHOU | JIA | LIN
ZHOU | JIANHUA
ZINGG | SARAH
ZINK | FIONA | HEATHER
ZOET | DANIEL | NICOLAAS
ZONDLER | JUDITH
ZOU | JISHENG
ZROTZ | SARAH-MARIA
ZUBIRIA | MANUEL
ZUIJDGEEST | KOEN
ZWEIFEL | PAUL | HENRY

Dated: July 31, 2020.
Pamela Ross,
Manager Classification Team 82413, Examinations Operations—Philadelphia Compliance Services.

[FR Doc. 2020-17176 Filed 8-5-20; 8:45 am]

BILLING CODE 4830-01-P